SMALL BUSINESS ADMINISTRATION

[Declaration of Disaster #3440, Amdt. #1]

State of Wisconsin

In accordance with a notice received from the Federal Emergency Management Agency, dated September 27, 2002, the above numbered declaration is hereby amended to establish the incident period for this disaster as beginning on September 2, 2002 and continuing through September 6, 2002.

All other information remains the same, i.e., the deadline for filing applications for physical damage is November 12, 2002, and for economic injury the deadline is June 10, 2003.

(Catalog of Federal Domestic Assistance Program Nos. 59002 and 59008)
Dated: September 30, 2002.
Herbert L. Mitchell,
Associate Administrator for Disaster Assistance.

[FR Doc. 02-25266 Filed 10-3-02; 8:45 am]

BILLING CODE 8025-01-P